DEPARTMENT OF TRANSPORTATION

Federal Aviation Administration

Notice of Opportunity for Public Comment on Surplus Property Release at Kinston Regional Jetport, Kinston, NC

AGENCY: Federal Aviation Administration (FAA), DOT.

ACTION: Notice.

SUMMARY: Under the provisions of Title 49, U.S.C. Section 47153(d), notice is being given that the FAA is considering a request from the North Carolina Global TransPark Authority to waive the requirement that a 3.63 acre parcel of surplus property, located at the Kinston Regional Jetport, be used for aeronautical purposes.

DATES: Comments must be received on or before December 31, 2009.

ADDRESSES: Comments on this notice may be mailed or delivered in triplicate to the FAA at the following address: Atlanta Airports District Office, 1701 Columbia Ave., Campus Building, Suite 2-260, College Park, GA 30337.

In addition, one copy of any comments submitted to the FAA must be mailed or delivered to Ms. Darlene A. Waddell, Executive Director at the following address: 2780 Jetport Road, Suite A, Kinston, NC 28504.

FOR FURTHER INFORMATION CONTACT: Rusty Nealis, Program Manager, Atlanta Airports District Office, 1701 Columbus Ave., Campus Bldg., Suite 2-260, College Park, GA 30337, (404) 305-7142. The application may be reviewed in person at this same location.

SUPPLEMENTARY INFORMATION: The FAA is reviewing a request by the North Carolina Global TransPark Authority to release 3.63 acres of surplus property at the Kinston Regional Jetport. The surplus property is being used for a computer design software facility for Spatial Integrated Systems, Inc.

Any person may inspect the request in person at the FAA office listed above under FOR FURTHER INFORMATION CONTACT.

In addition, any person may, upon request, inspect the request, notice and other documents germane to the request in person at 2780 Jetport Road, Suite A, Kinston, NC 28504.

Issued in Atlanta, GA on November 17, 2009.
Scott L. Seritt,
Manager, Atlanta Airports District Office, Southern Region.

[FR Doc. E9-28445 Filed 11-30-09; 8:45 am]

BILLING CODE 4910-13-M